DEPARTMENT OF TRANSPORTATION

Federal Railroad Administration

[Docket Number FRA-2009-0078]

Petition for Amendment of Waiver of Compliance

Under part 211 of title 49 Code of Federal Regulations (CFR), this document provides the public notice that by letters dated May 14, 2024, and August 19, 2024, the American Short Line and Regional Railroad Association (ASLRRA) petitioned the Federal Railroad Administration (FRA) for an amendment of a waiver of compliance from certain provisions of the Federal hours of service (HOS) laws contained at 49 U.S.C. 21103(a)(4), which, in part, require a train employee to receive 48 hours off duty after initiating an on-duty period for 6 consecutive days. The relevant FRA Docket Number is FRA-2009-0078.

Specifically, ASLRRA seeks to amend its existing waiver to add 3 railroads that did not participate in the original waiver, but now wish to participate. ASLRRA stated the following railroads expressed a desire to participate in the waiver, and maintain at their headquarters supporting documentation of employee support, as required:

• Railserve facility in Pasadena, Texas

• Golden Triangle Railroad

• Jaxport Terminal Railroad

Additionally, ASLRRA stated that the Western New York and Pennsylvania Railroad will be removed from the list of participating railroads, which was requested by the Brotherhood of Locomotive Engineers and Trainmen (BLET) by letter dated May 20, 2024.¹ Further, by letter dated April 26, 2024, BLET requested that the Florida Gulf and Atlantic Railroad be removed from the subject waiver.²

¹ See https://www.regulations.gov/document/FRA-2009-0078-0221.

² See https://www.regulations.gov/document/FRA-2009-0078-0218.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted at www.regulations.gov. Follow the online instructions for submitting comments.

Communications received by November 18, 2024 will be considered by FRA before final action is taken. Comments received after that date will be considered if practicable.

Anyone can search the electronic form of any written communications and comments received into any of the Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-21396 Filed 9-18-24; 8:45 am]

BILLING CODE 4910-06-P